DEPARTMENT OF THE INTERIOR

National Park Service

Draft Environmental Impact Statement/General Management Plan, Pinnacles National Monument, San Benito and Monterey Counties, CA; Notice of Intent To Prepare an Environmental Impact Statement

SUMMARY: In accord with section 102(C) of the National Environmental Policy Act of 1969 (42 U.S.C. 4321, et seq.), the National Park Service (NPS) has undertaken a conservation planning and environmental impact analysis process for updating the General Management Plan (GMP) for Pinnacles National Monument. An Environmental Impact Statement (EIS) will be prepared concurrently with the GMP. The GMP will address desired conditions for the Monument, uses or treatment needs for resource protection, visitor use and other management goals thus serving as a “blueprint” to guide management of natural and cultural resources and visitor use during the next 15-20 years. This notice supersedes the previous notice published in the Federal Register on November 19, 1998 (Vol. 63, No. 223).

Background: Pinnacles National Monument preserves an ecologically-rich, geologically-spectacular, and culturally-significant landscape in the Central Coast region of California. Established in 1908 and named for dramatic rock formations that are the remains of an ancient volcano, the Monument preserves a landscape shaped by earthquake, fire, and flood. The Monument is rich in plant and animal life that inhabit the park's chaparral, oak woodland, talus cave, riparian, and rock-and-scree habitats. In 2003, Pinnacles became the home once again to the California condor, one of the nation's most endangered species, elevating the Monument's profile substantially throughout the region.

Pinnacles preserves a rich human history with archeological sites reaching back at least 2,000 years, revealing use by indigenous people. Sites from the 1800s reflect the homesteading history of the area. In the 1930s, the Civilian Conservation Corps played the central role in the development of the Monument that visitors enjoy today, evidenced by roads, a visitor center, numerous park structures, and an outstanding trail system that stands as an important cultural resource in itself.

Located 100 miles south of the greater San Francisco Bay Area, Pinnacles is on the edge of one of the state's most populated and fastest-growing areas. Since 1976, Pinnacles has grown from 16,271 acres to 24,436 acres. In 1976, 15,985 acres were designated by Congress as Wilderness (and several tracts of land since transferred from the BLM bring the Wilderness total acreage to 16,048). Also, acquisition of the 2,000-acre Pinnacles Ranch during the spring of 2006 has added substantial new resources, infrastructure, recreational opportunities, and management challenges.

A new GMP reflecting contemporary issues and challenges facing Pinnacles in the future is essential. The plan will provide direction for park management through the establishment of management zones, user capacities and appropriate types and levels of development and recreational use for all areas of the park. Resource protection, visitor experiences, community relationships, and relationships with neighboring land management agencies will be improved through completion and implementation of the GMP.

Scoping Process: The purpose of the scoping outreach efforts is to elicit public comment regarding issues and concerns, the nature and extent of potential environmental impacts (and appropriate mitigation measures) that should be addressed in the plan. Major issues anticipated to be addressed in the EIS include:

• What are the desired conditions for native/endemic ecosystems?

• What are the desired conditions for Wilderness areas?

• What are the desired conditions for cultural resources and cultural landscapes?

• What areas and structures are appropriate for museum collections storage, preservation and accessibility for research?

• What is the desired visitor experience throughout the Monument (east side, west side, high peaks, Bear Gulch, Chalone, Chaparral, Pinnacles Ranch, campground, backcountry, Wilderness)?

• What are appropriate visitor use levels for different parts of the Monument?

• What transportation options should be considered for providing access to and within the Monument? What types of trail (or other) access are appropriate, and where?

• What is the appropriate level of development in different parts of the Monument, and what areas are appropriate for park administration and operations activities?

• How should the NPS work with nearby communities to encourage community understanding of the Monument and to address potential effects of development and population growth in neighboring communities on ecological, scenic, and Wilderness values of the Monument?

• Are there any recommendations for changes in the authorizing legislation for Pinnacles National Monument that should be considered in the GMP?

Comments: Through the outreach activities planned in this final scoping effort, the NPS welcomes additional information and suggestions from the public regarding resource protection, visitor use, and land management. This notice formally resumes the public scoping comment phase for the EIS process for the GMP. All interested persons, organizations, agencies, and American Indian tribes wishing to express new concerns or provide information about management issues which should be addressed in the GMP and environmental impact analysis process are encouraged to contact the Superintendent (previous responses are contained in the administrative record and do not need to be resubmitted). All comments received will become part of the public record. Before including your address, phone number, e-mail address, or other personal identifying information in your comment, you should be aware that your entire comment—including your personal identifying information—may be made publicly available at any time. While you can ask us in your comment to withhold your personal identifying information from public review, we cannot guarantee that we will be able to do so.

At this time, public scoping meetings are anticipated to be held during the spring of 2007; details will be announced widely in local and regional news media, via direct park mailings and through the GMP Web site: (http://parkplanning.nps.gov/pinn). All attendees will be given the opportunity to ask questions and provide comments to the planning team. The Web site will provide the most up-to-date information regarding the project, including project description, planning process updates, meeting notices, reports and documents, and useful links associated with the project.

All written comments regarding the preparation of the EIS/GMP must be postmarked or transmitted not later than May 31, 2007 and should be submitted directly to General Management Plan Team, Pinnacles National Monument, 5000 Hwy 146, Paicines, CA 95043 (or electronically through the Web site noted above).

Decision Process: At this time, the draft EIS/GMP is expected to be released for public review during the fall of 2008; following due consideration of all comments as may be submitted, the final document is anticipated to be completed in the summer of 2009. Formal announcement of the availability of both documents will be published in the Federal Register, publicized via local and regional media and the internet, and via direct mailing to the project mailing list. Responsibility for approving the Final EIS/GMP is delegated to the NPS, and the official responsible for the final decision is the Regional Director, Pacific West Region; subsequently the official responsible for implementing the approved GMP is the Superintendent, Pinnacles National Monument.

Dated: January 26, 2007.
Jonathan B. Jarvis,
Regional Director, Pacific West Region.

[FR Doc. E7-6447 Filed 4-5-07; 8:45 am]

BILLING CODE 4312-EP-P